ENVIRONMENTAL PROTECTION AGENCY

[EPA-HQ-OPPT-2003-0004; FRL-9959-88]

Access to Confidential Business Information by Versar, Inc. and Its Identified Subcontractors

AGENCY: Environmental Protection Agency (EPA).

ACTION: Notice.

SUMMARY: EPA has authorized its contractor and subcontractors, Versar, Inc. of Springfield, VA; Abt Associates of Bethesda, MD; Brown Glove Consulting Group of Fairfax, VA; EnDyna, Inc. of McLean, VA; Essential Software, Inc. of Potomac, MD; Syracuse Research Corporation of North Syracuse, NY; and Wilkes Technologies, Inc. of Bethesda, MD, to access information which has been submitted to EPA under all sections of the Toxic Substances Control Act (TSCA). Some of the information may be claimed or determined to be Confidential Business Information (CBI).

DATES: Access to the confidential data occurred on or about February 15, 2017.

FOR FURTHER INFORMATION CONTACT: For technical information contact: Scott M. Sherlock, Environmental Assistance Division (7408M), Office of Pollution Prevention and Toxics, Environmental Protection Agency, 1200 Pennsylvania Ave. NW., Washington, DC 20460-0001; telephone number: (202) 564-8257; email address: sherlock.scott@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. This action may, however, be of interest to all who manufacture, process, or distribute industrial chemicals. Since other entities may also be interested, the Agency has not attempted to describe all the specific entities that may be affected by this action.

B. How can I get copies of this document and other related information?

The docket for this action, identified by docket identification (ID) number EPA-HQ-OPPT-2003-0004 is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

II. What action is the agency taking?

Under EPA contract number EP-W-17-006, contractor and subcontractors Versar, Inc. of 6850 Versar Center, Springfield, VA; Abt Associates of 4550 Montgomery Avenue, Suite 800 North, Bethesda, MD; Brown Glove Consulting Group of 4618 Carisbrooke Lane, Fairfax, VA; EnDyna, Inc. of 7926 Jones Branch Drive, Suite 620, McLean, VA; Essential Software Inc. of 9024 Mistwood Drive, Potomac, MD; Syracuse Research Corporation of 7502 Round Pond Road, North Syracuse, NY; and Wilkes Technologies, Inc. of 10126 Parkwood Terrace, Bethesda, MD are assisting the Office of Pollution Prevention and Toxics (OPPT) in preparing assessments of EPA's new and existing chemical review programs. They will also review TSCA CBI environmental data submitted to EPA.

In accordance with 40 CFR 2.306(j), EPA has determined that under EPA contract number EP-W-17-006, Versar and its subcontractors required access to CBI submitted to EPA under all sections of TSCA to perform successfully the duties specified under the contract. Versar and its subcontractors' personnel were given access to information submitted to EPA under all sections of TSCA. Some of the information may be claimed or determined to be CBI.

EPA is issuing this notice to inform all submitters of information under all sections of TSCA that EPA has provided Verar and its subcontractors access to these CBI materials on a need-to-know basis only. All access to TSCA CBI under this contract is taking place at EPA Headquarters and Versar's site located in Springfield, Virginia, in accordance with EPA's TSCA CBI Protection Manual.

Access to TSCA data, including CBI, will continue until November 3, 2021. If the contract is extended, this access will also continue for the duration of the extended contract without further notice.

Versar and its subcontractors' personnel have signed nondisclosure agreements and were briefed on appropriate security procedures before they were permitted access to TSCA CBI.

Authority: 15 U.S.C. 2601 et seq.

Dated: March 6, 2017.
Pamela Myrick,
Director, Information Management Division, Office of Pollution Prevention and Toxics.

[FR Doc. 2017-09560 Filed 5-10-17; 8:45 am]

BILLING CODE 6560-50-P